Memorandum of April 5, 2013

Federal Employee Pay Schedules and Rates That Are Set by Administrative Discretion

Memorandum for the Heads of Executive Departments and Agencies

Section 1112 of the Consolidated and Further Continuing Appropriations Act, 2013 (Public Law 113-6), reflects the Congress's decision to continue to deny statutory adjustments to any pay systems or pay schedules covering executive branch employees. In light of the Congress's action, I am instructing heads of executive departments and agencies to continue through December 31, 2013, to adhere to the policy set forth in my memoranda of December 22, 2010, and December 21, 2012, regarding general increases in pay schedules and employees' rates of pay that might otherwise take effect as a result of the exercise of administrative discretion.

This memorandum shall be carried out to the extent permitted by law and consistent with executive departments' and agencies' legal authorities. This memorandum is not intended to, and does not, create any right or benefit, substantive or procedural, enforceable at law or in equity by any party against the United States, its departments, agencies, or entities, its officers, employees, or agents, or any other person.

The Director of the Office of Personnel Management shall issue any necessary guidance on implementing this memorandum, and is also hereby authorized and directed to publish this memorandum in the Federal Register.

THE WHITE HOUSE,

Washington, April 5, 2013

[FR Doc. 2013-08523

Filed 4-9-13; 8:45 am]

Billing code 6325-01